CONSUMER PRODUCT SAFETY COMMISSION

[CPSC Docket No. 01-C0006]

Cosco, Inc., a Corporation, and Safety 1st, Inc., a Corporation, Subsidiaries of Dorel U.S.A., Inc., Provisional Acceptance of a Settlement Agreement and Order; Correction

AGENCY: Consumer Product Safety Commission.

ACTION: Notice; correction.

SUMMARY: The Consumer Product Safety Commission published a document in the Federal Register of April 9, 2001, concerning a provisionally accepted settlement agreement and order with Cosco, Inc. and Safety 1st, Inc. The Summary paragraph of the document contained incomplete information about the two civil penalties contained in the agreement.

FOR FURTHER INFORMATION CONTACT: Ronald G. Yelenik or Patricia Kennedy, Trial Attorneys, Office of Compliance and Enforcement, Consumer Product Safety Commission, Washington, DC 20207; telephone 301-504-0626.

Correction

In the Federal Register issue of April 9, 2001, 66 FR 18450, in the Summary, add before the period of the final sentence the words “for Cosco and a civil penalty of $450,000 for Safety 1st.”

Dated: April 24, 2001.
Sadye E. Dunn,
Secretary.

[FR Doc. 01-10691 Filed 4-27-01; 8:45 am]

BILLING CODE 6355-01-M